DEPARTMENT OF ENERGY

Federal Energy Regulatory Commission

[Docket No. RP05-691-000]

CenterPoint Energy-Mississippi River Transmission Corporation; Notice of Postponement of Technical Conference

November 30, 2005.

Take notice that the technical conference scheduled for Tuesday, December 6, 2005, has been postponed until Tuesday, January 24, 2006, at 10 a.m. (e.s.t.), in a room to be designated at the offices of the Federal Energy Regulatory Commission, 888 First Street, NE., Washington, DC 20426.

Magalie R. Salas,
Secretary.

[FR Doc. E5-6958 Filed 12-6-05; 8:45 am]

BILLING CODE 6717-01-P